DEPARTMENT OF ENERGY

Federal Energy Regulatory Commission

[Docket Nos. RM16-17-000; RM16-17-001]

Data Collection for Analytics and Surveillance and Market-Based Rate Purposes; Supplemental Notice of Technical Workshop

As first announced in the Notice of Technical Workshop issued in this proceeding on February 25, 2021, the Federal Energy Regulatory Commission (Commission) will convene a staff-led technical workshop in the above-referenced proceeding. The technical workshop will now be held on April 22, 2021, approximately from 10:00 a.m. to 3:00 p.m. (ET), which is a change in the date set by the prior notice. The technical workshop will still be held electronically.

This workshop will discuss the timelines, functionalities, and features of the relational database through which the Commission will begin collecting certain market-based rate (MBR) information in accordance with Order No. 860 (MBR Database).¹ This workshop will provide a forum for dialogue between Commission staff and interested entities to discuss the general features of the MBR Database and the process for submitting information into this database through the MBR Portal. For reference, interested entities can access the MBR Database at https://mbrweb.ferc.gov/. Attached to this Supplemental Notice is an agenda for the technical workshop.

¹ Data Collection for Analytics and Surveillance and Market-Based Rate Purposes, Order No. 860, 168 FERC ¶ 61,039 (2019), order on reh'g, Order No. 860-A, 170 FERC ¶ 61,129 (2020).

There is no fee for attendance, and the workshop is open for the public to attend electronically via Webex. Individuals must register to attend the workshop. Individuals who are interested in registering for and attending the workshop can do so here: https://ferc.webex.com/ferc/j.php?MTID=e6dd18def200b281ff165e57325102ee0.

For more information about this technical workshop, please contact:

Sarah McKinley (Logistical Information), Office of External Affairs, (202) 502-8004, sarah.mckinley@ferc.gov.

Ryan Stertz (Technical Information), Office of Energy Market Regulation, (202) 502-6473, mbrdatabase@ferc.gov.

Dated: March 19, 2021.
Kimberly D. Bose,
Secretary.

Staff-Led Technical Workshop on the MBR Database

Docket Nos. RM16-17-000 and RM16-17-001

April 22, 2021

Agenda

10:00 a.m.-10:15 a.m.: Welcome and Opening Remarks

10:15 a.m.-11:00 a.m.: Topic 1—Timelines and Transitions to the Database

1. Review common terms and definitions used when interfacing with the MBR Portal

2. Provide greater detail about filing and submission timelines in light of recent Commission issuances

3. How to reference submissions made to the MBR Portal in filings

4. How to reference asset appendices in filings

5. Overview of differences in requirements for the XML submissions to the MBR Portal and the filing requirements

11:00 a.m.-11:15 a.m.: Break

11:15 a.m.-12:00 p.m.: Topic 2—Overview of MBR Portal and the Submission Process

1. General walk-through of the MBR Portal

2. How to find and create identifiers

3. Review available resources such as lookup tables and available documentation

12:00 p.m.-1:00 p.m.: Lunch Break

1:00 p.m.-1:45 p.m.: Topic 3—Submission Examples

1. How to make test submissions when the MBR Database goes live

2. Examples of successful submissions

3. Examples of failed submissions and troubleshooting error messages

1:45 p.m.-2:00 p.m.: Break

2:00 p.m.-2:30 p.m.: Topic 4—Reports and Downloading Information

1. Overview of interacting with the submitted data in the MBR Portal

2. Instruction of how to use the report functionalities

3. How to verify submission data by reviewing exported information

2:30 p.m.-3:00 p.m.: Closing Remarks and Final Questions

[FR Doc. 2021-06255 Filed 3-25-21; 8:45 am]

BILLING CODE 6717-01-P